DEPARTMENT OF TRANSPORTATION

Federal Aviation Administration

14 CFR Part 39

[Docket No. FAA-2015-1986; Directorate Identifier 2012-NM-100-AD; Amendment 39-18188; AD 2015-13-01]

RIN 2120-AA64

Airworthiness Directives; ATR-GIE Avions de Transport Régional Airplanes

AGENCY: Federal Aviation Administration (FAA), Department of Transportation (DOT).

ACTION: Final rule; request for comments.

SUMMARY: We are adopting a new airworthiness directive (AD) for certain ATR-GIE Avions de Transport Régional Model ATR42-500 and ATR72-212A airplanes. This AD requires inspection of the affected control systems rods and, depending on findings, a replacement of the affected rods. This AD was prompted by reports of non-conformity of certain control rods, which could result in failure of the control rods. We are issuing this AD to detect and correct failure of an affected control rod, which, under certain circumstances, could result in reduced control of the airplane.

DATES: This AD becomes effective July 13, 2015.

The Director of the Federal Register approved the incorporation by reference of certain publications listed in this AD as of July 13, 2015.

We must receive comments on this AD by August 10, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221. It is also available on the Internet at http://www.regulations.gov by searching for and locating Docket No. FAA-2015-1986.

Examining the AD Docket

You may examine the AD docket on the Internet at http://www.regulations.gov by searching for and locating Docket No. FAA-2015-1986; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

The European Aviation Safety Agency (EASA), which is the Technical Agent for the Member States of the European Union, has issued EASA Airworthiness Directive 2012-0064, dated April 20, 2012 (referred to after this as the Mandatory Continuing Airworthiness Information, or “the MCAI”), to correct an unsafe condition for Model ATR42-500 and ATR72-212A airplanes. The MCAI states:

Prompted by the findings that led to publication of EASA AD 2010-0063-E, additional quality investigation showed that the non-conformity of certain control rods, which was due to incorrect polishing during the rod manufacturing process, could also affect other flight control rods [and could result in failure of the control rods].

These other potentially non-conforming control rods are installed on elevator controls, rudder pedal assemblies and rudder tab controls of certain ATR aeroplanes.

This condition, if not detected and corrected, could lead to failure of an affected control rod which, under certain circumstances, could result in reduced control of the aeroplane.

As a result of further investigations, other batches have been incriminated, in addition to the ones identified by EASA AD 2010-0063-E, and new safety analyses also indicate the need for replacement of the rods (within an adapted compliance time), which had passed the check required by EASA AD 2010-0063-E. Consequently, EASA AD 2010-0063-E is superseded by this new AD.

For the reasons described above, this [EASA] AD requires a one-time inspection of the affected control systems rods and, depending on findings, replacement of the affected rods.

You may examine the MCAI on the Internet at http://www.regulations.gov by searching for and locating Docket No. FAA-2015-1986.

Related Service Information Under 1 CFR Part 51

ATR-GIE Avions de Transport Régional (ATR) has issued the following service information.

• ATR Service Bulletin ATR42-27-0104, Revision 01, dated August 30, 2011.

• ATR Service Bulletin ATR42-27-0105, Revision 01, dated August 30, 2011.

• ATR Service Bulletin ATR72-27-1065, Revision 02, dated August 30, 2011.

• ATR Service Bulletin ATR72-27-1066, Revision 01, dated August 30, 2011.

This service information describes procedures for the inspection of affected control systems rods and, depending on findings, a replacement of the affected rods. This service information is reasonably available because the interested parties have access to it through their normal course of business or by the means identified in the ADDRESSES section of this AD.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type designs.

There are no products of this type currently registered in the United States; however, this rule is necessary to ensure that the described unsafe condition is addressed if any of these products are placed on the U.S. Register in the future.

Differences Between This AD and the MCAI or Service Information

The actions specified in paragraph (4) of the MCAI, for rudder pedals that have been inspected according to EASA AD 2010-0063-E, dated April 1, 2010, is not included in this AD because the those actions were not required by any FAA AD.

Although the MCAI requires using a certain repair manual to repair certain conditions, paragraph (i) of this AD requires repair using a method approved by the Manager, International Branch, ANM-116, Transport Airplane Directorate, FAA; or the European Aviation Safety Agency (EASA); or ATR-GIE Avions de Transport Régional's EASA Design Organization Approval (DOA).

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2015-1986; Directorate Identifier 2012-NM-100-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

Currently, there are no affected airplanes on the U.S. Register. However, if an affected airplane is imported and placed on the U.S. Register in the future, we estimate that it will take about 1 work-hour per product to comply with the basic requirements of this AD. The average labor rate is $85 per work-hour. Required parts will cost $0 per product. Based on these figures, we estimate the cost of this AD on U.S. operators to be $85 per product.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-13-01 ATR-GIE Avions de Transport Régional: Amendment 39-18188. Docket No. FAA-2015-1986; Directorate Identifier 2012-NM-100-AD.

(a) Effective Date

This AD becomes effective July 13, 2015.

(b) Affected ADs

None.

(c) Applicability

This AD applies to airplanes specified in paragraphs (c)(1) and (c)(2) of this AD, certificated in any category.

(1) ATR-GIE Avions de Transport Régional Model ATR42-500 airplanes having manufacturer serial number (MSN) 671 through 815 inclusive, except MSN 811.

(2) ATR-GIE Avions de Transport Régional Model ATR72-212A airplanes having MSN 769 through 914 inclusive, except MSN 826, 905, 908, and 911.

(d) Subject

Air Transport Association (ATA) of America Code 27, Flight Controls.

(e) Reason

This AD was prompted by reports of non-conformity of certain control rods, which could result in failure of the control rods. We are issuing this AD to detect and correct failure of an affected control rod, which, under certain circumstances, could result in reduced control of the airplane.

(f) Compliance

Comply with this AD within the compliance times specified, unless already done.

(g) Elevator Control Rod Inspection

For airplanes identified in ATR Service Bulletin ATR42-27-0105, Revision 01, dated August 30, 2011; or ATR72-27-1066, Revision 01, dated August 30, 2011; as applicable to airplane model: Within 6 months after the effective date of this AD, inspect all four elevator control rods having part number (P/N) S27381930-004 and P/N S27381831-006 for batch number identification, in accordance with the Accomplishment Instructions of ATR Service Bulletin ATR42-27-0105, Revision 01, dated August 30, 2011; or ATR Service Bulletin ATR72-27-1066, Revision 01, dated August 30, 2011, as applicable to airplane model. A review of airplane maintenance records is acceptable in lieu of this inspection, if the batch number can be conclusively determined from that review. Replace any affected rod, including any rod with an unreadable batch number, at the applicable time specified in paragraph (g)(1) or (g)(2) of this AD, in accordance with ATR Service Bulletin ATR42-27-0105, Revision 01, dated August 30, 2011; or ATR72-27-1066, Revision 01, dated August 30, 2011; as applicable to airplane model.

(1) If only one rod is affected: Replace it within 10 days after the inspection.

(2) If two or more rods are affected: Replace all rods before further flight, except that replacement of one of the affected rods may be deferred for 10 days.

(h) Rudder Pedal Rod Inspection

For airplanes identified in ATR Service Bulletin ATR42-27-0104, Revision 01, dated August 30, 2011; or ATR Service Bulletin ATR72-27-1065, Revision 02, dated August 30, 2011; as applicable to airplane model: Inspect all four rudder pedal rods having P/N S2728116400000 for batch number identification, in accordance with the Accomplishment Instructions of ATR Service Bulletin ATR42-27-0104, Revision 01, dated August 30, 2011; or ATR Service Bulletin ATR72-27-1065, Revision 02, dated August 30, 2011; as applicable to airplane model. For any affected rudder pedal rod, including any rod with an unreadable batch number, before further flight, check the rod diameter using a special tool, in accordance with ATR Service Bulletin ATR42-27-0104, Revision 01, dated August 30, 2011; or ATR Service Bulletin ATR72-27-1065, Revision 02, dated August 30, 2011; as applicable to airplane model.

(1) If, during the diameter check, the rod passes through the tool, replace the rod before further flight.

(2) If, during the diameter check, the rod does not pass through the tool, replace the rod within 5,000 flight hours after the diameter check.

(i) Rudder Tab Control Rod Inspection

For airplanes identified in paragraph (c) of this AD, except for airplanes having MSNs 671, 673, and 769 through 784 inclusive: Within 24 months after the effective date of this AD, inspect the rudder tab control rod P/N S27281929-002 for batch number identification, using a method approved by the Manager, International Branch, ANM-116, Transport Airplane Directorate, FAA; or the European Aviation Safety Agency (EASA); or Avions de Transport Régional (ATR)'s EASA Design Organization Approval (DOA). If the rudder tab control rod belongs to batch number 2107267 or 2120855, or if the batch number is unreadable: Before further flight, replace the rod with a serviceable rod using a method approved by the Manager, International Branch, ANM-116, Transport Airplane Directorate, FAA; or EASA; or ATR's EASA DOA.

Note 1 to paragraph (i) of this AD: ATR 42/72 Aircraft Maintenance Manual (AMM)/Job Instruction Cards (JIC) 27-20-00 DVI 1000 and AMM/JIC 27-21-42 RAI 10000 are additional sources of guidance for accomplishment of the rudder tab control rod inspection.

(j) Reporting Requirement

Submit a report of the rod inspection and check required by paragraphs (g) and (h) of this AD at the applicable compliance time specified in paragraph (j)(1) of this AD, in accordance with the instructions specified in paragraph (j)(2) of this AD.

(1) Submit the report at the applicable time specified in paragraph (j)(1)(i) or (j)(1)(ii) of this AD.

(i) If the inspection or check was done on or after the effective date of this AD: Submit the report within 30 days after the inspection or check.

(ii) If the inspection or check was done before the effective date of this AD: Submit the report within 30 days after the effective date of this AD.

(2) Submit the report (including no findings) to ATR using the Accomplishment Report form provided in the service information identified in paragraph (j)(2)(i), (j)(2)(ii), (j)(2)(iii), or (j)(2)(iv) of this AD; as applicable to airplane model.

(i) ATR Service Bulletin ATR42-27-0104, Revision 01, dated August 30, 2011.

(ii) ATR Service Bulletin ATR42-27-0105, Revision 01, dated August 30, 2011.

(iii) ATR Service Bulletin ATR72-27-1065, Revision 02, dated August 30, 2011.

(iv) ATR Service Bulletin ATR72-27-1066, Revision 01, dated August 30, 2011.

(3) Send the report to ATR-GIE Avions de Transport Régional, 1, Allée Pierre Nadot, 31712 Blagnac Cedex, France; telephone +33 (0) 5 62 21 62 21; fax +33 (0) 5 62 21 67 18; email techdesk@atr.fr.

(k) Credit for Previous Actions

This paragraph provides credit for the actions required by paragraphs (g) and (h) of this AD, if those actions were performed before the effective date of this AD using the applicable service information specified in paragraphs (k)(1) through (k)(5) of this AD. These documents are not incorporated by reference in this AD.

(1) ATR Service Bulletin ATR42-27-0104, dated December 17, 2010.

(2) ATR Service Bulletin ATR42-27-0105, dated February 17, 2011.

(3) ATR Service Bulletin ATR72-27-1065, dated April 15, 2010.

(4) ATR Service Bulletin ATR72-27-1065, Revision 01, dated December 17, 2010.

(5) ATR Service Bulletin ATR72-27-1066, dated February 17, 2011.

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the Manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or ATR-GIE Avions de Transport Régional's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

(1) Refer to Mandatory Continuing Airworthiness Information (MCAI) EASA Airworthiness Directive 2012-0064, dated April 20, 2012, for related information. You may examine the MCAI on the Internet at http://www.regulations.gov by searching for and locating Docket No. FAA-2015-1986.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Service Bulletin ATR42-27-0104, Revision 01, dated August 30, 2011.

(ii) ATR Service Bulletin ATR42-27-0105, Revision 01, dated August 30, 2011.

(iii) ATR Service Bulletin ATR72-27-1065, Revision 02, dated August 30, 2011.

(iv) ATR Service Bulletin ATR72-27-1066, Revision 01, dated August 30, 2011.

(3) For service information identified in this AD, contact ATR-GIE Avions de Transport Régional, 1, Allée Pierre Nadot, 31712 Blagnac Cedex, France; telephone +33 (0) 5 62 21 62 21; fax +33 (0) 5 62 21 67 18; email continued.airworthiness@atr.fr; Internet http://www.aerochain.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 17, 2015.
Michael Kaszycki,
Acting Manager, Transport Airplane Directorate, Aircraft Certification Service.

[FR Doc. 2015-15615 Filed 6-25-15; 8:45 am]

BILLING CODE 4910-13-P